Title 3—

The President

Proclamation 7306 of May 11, 2000

National Equal Pay Day, 2000

By the President of the United States of America

A Proclamation

Long before President Kennedy signed into law the Equal Pay Act of 1963, women had proved their ability to contribute to America's labor market. During World War II, when labor shortages offered women an unprecedented opportunity to work outside the home, women excelled at jobs traditionally reserved for men. Yet, despite their enormous contribution to maintaining American production lines, women in the workforce were paid less than their male counterparts.

For most of our Nation's history, in fact, women have served within a sharply segregated workforce, enjoying fewer educational and training opportunities than men and struggling all too often to disprove confining stereotypes about their roles and capabilities. But throughout the decades, women of courage, energy, and determination have continued to enter the workforce and open doors of opportunity for succeeding generations. Today, more women are in the labor force than ever before; the female unemployment rate is at its lowest in more than 40 years; the poverty rate for households headed by women is the lowest ever recorded; and the pay gap has narrowed substantially since 1963.

Despite these gains, the battle for equal pay for women is far from over. Although 37 years have passed since the passage of the Equal Pay Act, the average woman today must still work an additional 17 weeks a year to earn what the average man earns. That pay gap grows wider as women grow older, and it is widest for women of color. African American women earn 64 cents for every dollar earned by white men, and Hispanic women earn just 55 cents. While some of these disparities can be attributed to differences in education, experience, and occupation—which themselves often reflect troubling inequities—several studies confirm that a significant pay gap persists even after we account for these factors.

My Administration has worked hard to ensure that every American is treated with fairness and dignity in the workplace, and this year I proposed a $27 million equal pay initiative in my fiscal year 2001 budget to combat unfair pay practices against women. This initiative includes $10 million in funding for the Equal Employment Opportunity Commission (EEOC) to identify more quickly and respond more effectively to wage discrimination. The initiative would also enable the EEOC to launch a public service campaign to educate employees and employers about their rights and responsibilities under equal pay laws. In addition, the initiative includes funding for the Department of Labor to train women for jobs they have not traditionally held, such as those in the high-paying technology sector, and to help employers recruit and train qualified women for nontraditional occupations.

I have also urged the Congress to strengthen existing wage discrimination laws by promptly passing the Paycheck Fairness Act. This proposed legislation would provide increased penalties for equal pay violations; prohibit employers from punishing employees who share salary information with coworkers; and provide funding for research on wage discrimination and for increased training for EEOC employees who work on wage discrimination cases.

Throughout the decades, working women have persevered in their struggle for equal pay, buoyed by an unshakable faith in their own skills and self-worth and a firm commitment to the ideals of our democracy. On National Equal Pay Day, I urge all Americans to join the crusade to secure equal pay for women and to create a just and honorable work environment in which all our citizens are rewarded fairly for their talents, experience, and contributions.

NOW, THEREFORE, I, WILLIAM J. CLINTON, President of the United States of America, by virtue of the authority vested in me by the Constitution and laws of the United States of America, do hereby proclaim May 11, 2000, as National Equal Pay Day. I call upon government officials, law enforcement agencies, business leaders, educators, and the American people to recognize the full value of the skills and contributions of women in the labor force. I urge all employers to review their wage practices and ensure that all their employees are paid equitably for their work.

IN WITNESS WHEREOF, I have hereunto set my hand this eleventh day of May, in the year of our Lord two thousand, and of the Independence of the United States of America the two hundred and twenty-fourth.

wj

[FR Doc. 00-12287

Filed 5-12-00; 8:45 am]

Billing code 3195-01-P